SECURITIES AND EXCHANGE COMMISSION

[SEC File No. 270-668, OMB Control No. 3235-0751]

Submission for OMB Review; Comment Request; Extension: Rule 18a-6

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget (“OMB”) a request for extension of the previously approved collection of information discussed below.

Rule 18a-6, which is modeled on Rule 17a-4, establishes record maintenance and preservation requirements for stand-alone and bank security-based swap dealers (“SBSDs”) and major security-based swap participants (“MSBSPs”) (collectively, “SBS entities”). Specifically, Rule 18a-6 prescribes the period of time the records required to be made and kept current under Rule 18a-5 must be preserved by stand-alone SBSDs and MSBSPs and the manner in which the records must be preserved. Rule 18a-6 also identifies additional types of records that must be preserved (e.g., written communications and agreements relating to the firm's business) if the record is made or received by the SBS entity.

The Commission estimates that the total hour burden under Rule 18a-6 is approximately 15,626 burden hours per year, and the total cost burden is approximately $1,349,098 per year. Since the last approval of this information collection, the estimated total burden hours per year has decreased due to a decrease in the number of respondents subject to the requirements of the Rule. The estimated total cost burden per year, however, increased due to changes in the number of respondents with respect to certain provisions of Rule 18a-6.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by June 24, 2024 to (i) www.reginfo.gov/public/do/PRAMain and (ii) David Bottom, Director/Chief Information Officer, Securities and Exchange Commission, c/o John Pezzullo, 100 F Street NE, Washington, DC 20549, or by sending an email to: PRA_Mailbox@sec.gov.

Dated: May 20, 2024.
Sherry R. Haywood,
Assistant Secretary.

[FR Doc. 2024-11413 Filed 5-23-24; 8:45 am]

BILLING CODE 8011-01-P